DEPARTMENT OF HEALTH AND HUMAN SERVICES

National Institutes of Health

National Cancer Institute; Amended Notice of Meeting

Notice is hereby given of a change in the meeting of the joint meeting of the National Cancer Advisory Board and NCI Board of Scientific Advisors, June 26, 2018, 8:30 a.m. to June 27, 2018, 12:00 p.m., National Cancer Institute Shady Grove, 9609 Medical Center Drive, Conference Room TE 406/408, Rockville, MD 20850 which was published in the Federal Register on June 05, 2018, 83 FR 26069.

This meeting notice is being amended to update the meeting locations for the National Cancer Advisory Board Ad Hoc Subcommittee meetings. The National Cancer Advisory Board Ad Hoc Subcommittee Population Science, Epidemiology and Disparities meeting on June 25, 2018, 5:30 p.m. to 7:30 p.m., will be held at the Gaithersburg Marriott Washingtonian Center in Salons A and B. The National Cancer Advisory Board Ad Hoc Subcommittee on Global Cancer Research meeting on June 25, 2018, 7:30 p.m. to 9:00 p.m., will be held at the Gaithersburg Marriott Washingtonian Center in Salon C.

Dated: June 11, 2018.
Melanie J. Pantoja,
Program Analyst, Office of Federal Advisory Committee Policy.

[FR Doc. 2018-12837 Filed 6-14-18; 8:45 am]

BILLING CODE 4140-01-P